DEPARTMENT OF ENERGY

Federal Energy Regulatory Commission

Combined Notice of Filings

Take notice that the Commission has received the following Natural Gas Pipeline Rate and Refund Report filings:

Filings Instituting Proceedings

Docket Numbers: RP17-38-000.

Applicants: Algonquin Gas Transmission, LLC.

Description: § 4(d) Rate Filing: Negotiated Rates—Keyspan Release to ConEd 792126 to be effective 11/1/2016.

Filed Date: 10/19/16.

Accession Number: 20161019-5029.

Comments Due: 5 p.m. ET 10/31/16.

Docket Numbers: RP17-39-000.

Applicants: Southern Natural Gas Company, L.L.C.

Description: § 4(d) Rate Filing: 2016 Expansion Negotiated Rate Filing to be effective 12/1/2016.

Filed Date: 10/19/16.

Accession Number: 20161019-5041.

Comments Due: 5 p.m. ET 10/31/16.

Docket Numbers: RP17-40-000.

Applicants: Algonquin Gas Transmission, LLC.

Description: § 4(d) Rate Filing: Negotiated Rates—KeySpan Release to Emera contract 792149 to be effective 11/1/2016.

Filed Date: 10/19/16.

Accession Number: 20161019-5047.

Comments Due: 5 p.m. ET 10/31/16.

Docket Numbers: RP17-41-000.

Applicants: Natural Gas Pipeline Company of America.

Description: § 4(d) Rate Filing: Peoples Gas Light & Coke Negotiated Rate to be effective 11/1/2016.

Filed Date: 10/20/16.

Accession Number: 20161020-5000.

Comments Due: 5 p.m. ET 11/1/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-301-002.

Applicants: Equitrans, L.P.

Description: Compliance filing IBS First Year of Service—Compliance Filing.

Filed Date: 10/20/16.

Accession Number: 20161020-5036.

Comments Due: 5 p.m. ET 11/1/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2016.
Nathaniel J. Davis, Sr.,
Deputy Secretary.

[FR Doc. 2016-25986 Filed 10-26-16; 8:45 am]

BILLING CODE 6717-01-P